DEPARTMENT OF DEFENSE

Defense Information Systems Agency

Privacy Act of 1974; System of Records

AGENCY: Defense Information Systems Agency, DoD.

ACTION: Notice to Delete Systems of Records.

SUMMARY: The Defense Information Systems Agency is deleting three systems of records notices from its existing inventory of records systems subject to the Privacy Act of 1974, (5 U.S.C. 552a), as amended.

DATES: This proposed action will be effective without further notice on March 24, 2003 unless comments are received which result in a contrary determination.

ADDRESSES: Send comments to the Defense Information Systems Agency, 5600 Columbia Pike, Room 933-I, Falls Church, VA 22041-2705.

FOR FURTHER INFORMATION CONTACT: Mr. David Bosworth at (703) 681-2066.

SUPPLEMENTARY INFORMATION: The Defense Information Systems Agency systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: February 12, 2003.
Patricia L. Toppings,
Alternate OSD Federal Register Liaison Officer, Department of Defense.

KDCE.01

System name:

Visit Notification/Clearance Verification Records NR501-11 (February 22, 1993, 58 FR 10562).

Reason: The notice was published to cover records being maintained at the DISA facility located in Reston, VA. The facility has since been vacated, therefore, records collected and maintained in this system of records were destroyed one year after facility was vacated.

KDCE.02

System name:

Parking Permit Control Files 501-07 (February 22, 1993, 58 FR 10562).

Reason: The notice was published to cover records being maintained at the DISA facility located in Reston, VA. The facility has since been vacated, therefore, records collected and maintained in this system of records have been destroyed.

KDTI.01

System name:

Permanent Change of Stations Records (August 22, 2000, 65 FR 50974).

Reason: This system of records was never activated. No records were ever collected or maintained under this system of records notice.

[FR Doc. 03-4065 Filed 2-19-03; 8:45 am]

BILLING CODE 5001-08-P